DEPARTMENT OF TRANSPORTATION

Federal Aviation Administration

14 CFR Part 39

[Docket No. FAA-2026-0022; Project Identifier MCAI-2025-01575-A]

RIN 2120-AA64

Airworthiness Directives; Pilatus Aircraft Ltd. Airplanes

AGENCY: Federal Aviation Administration (FAA), DOT.

ACTION: Notice of proposed rulemaking (NPRM).

SUMMARY: The FAA proposes to supersede Airworthiness Directive (AD) 2023-11-05, which applies to all Pilatus Aircraft Ltd. (Pilatus) Model PC-24 airplanes. AD 2023-11-05 requires revising the airworthiness limitations section (ALS) of the existing aircraft maintenance manual (AMM) or instructions for continued airworthiness (ICA) to incorporate new or more restrictive airworthiness limitations. Since the FAA issued AD 2023-11-05, the FAA has determined that new or more restrictive airworthiness limitations are necessary. This proposed AD would require revising the ALS of the existing AMM or ICA for your airplane. The FAA is proposing this AD to address the unsafe condition on these products.

DATES: The FAA must receive comments on this NPRM by March 9, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0022; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Agency (EASA) material identified in this NPRM, contact EASA, Konrad-Adenauer-Ufer 3, 50668 Cologne, Germany; phone: +49 221 8999 000; email: ADs@easa.europa.eu; website: easa.europa.eu. You may find this material on the EASA website at ad.easa.europa.eu.

• You may view this material at the FAA, Airworthiness Products Section, Operational Safety Branch, 901 Locust, Kansas City, MO 64106. For information on the availability of this material at the FAA, call (817) 222-5110.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written relevant data, views, or arguments about this proposal. Send your comments using a method listed under ADDRESSES. Include “Docket No. FAA-2026-0022; Project Identifier MCAI-2025-01575-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, 1600 Stewart Avenue, Suite 410, Westbury, NY 11590. Any commentary that the FAA receives which is not specifically designated as CBI will be placed in the public docket for this rulemaking.

Background

The FAA issued AD 2023-11-05, Amendment 39-22451 (88 FR 38382, June 13, 2023) (AD 2023-11-05), for all Pilatus Model PC-24 airplanes. AD 2023-11-05 was prompted by an MCAI originated by EASA, which is the Technical Agent for the Member States of the European Union. EASA issued EASA AD 2022-0207, dated October 10, 2022, (EASA AD 2022-0207) to correct an unsafe condition identified as a failure to revise the ALS of the existing AMM by introducing new or more restrictive tasks and limitations, including a new certification maintenance requirement task to inspect and test aileron trim and rudder trim actuators, new nose landing gear assembly and drag stay inspections and life limits, and revisions to various fuselage section inspection intervals. The MCAI states that these instructions have been identified as mandatory for continued airworthiness, and failure to accomplish them could result in an unsafe condition.

AD 2023-11-05 requires revising the ALS of the existing AMM or ICA to incorporate new or more restrictive airworthiness limitations. The FAA issued AD 2023-11-05 to address failure of certain parts, which could result in loss of control of the airplane.

Actions Since AD 2023-11-05 Was Issued

Since the FAA issued AD 2023-11-05, EASA superseded EASA AD 2022-0207 and issued EASA AD 2025-0211, dated September 26, 2025 (EASA AD 2025-0211) (also referred to as the MCAI), for all Pilatus Model PC-24 airplanes. The MCAI states that new or more restrictive tasks and limitations have been developed. These include revisions to various fuselage section inspection intervals and aileron and rudder trim actuator inspection intervals. The FAA is issuing this AD to address failure of certain parts, which could result in loss of control of the airplane.

Additionally, the actions required to address the unsafe condition in AD 2023-11-05 are included in “the applicable ALS,” as defined in EASA AD 2025-0211.

You may examine the MCAI in the AD docket at regulations.gov under Docket No. FAA-2026-0022.

Material Incorporated by Reference Under 1 CFR Part 51

The FAA reviewed EASA AD 2025-0211, which specifies procedures for revising the aircraft maintenance program (AMP) by incorporating airworthiness limitations, tasks, and associated thresholds and intervals, including life limits and maintenance tasks. EASA AD 2025-0211 also specifies doing corrective actions if any discrepancy (as defined in “the applicable ALS” as defined in EASA AD 2025-0211) is found during accomplishment of any task in paragraph (1) of EASA AD 2025-0211 and revising the aircraft maintenance program (AMP) by incorporating the limitations, tasks, and associated thresholds and intervals described in “the applicable ALS” as defined in EASA AD 2025-0211.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Proposed AD Requirements in This NPRM

This proposed AD would retain none of the requirements of 2023-11-05. This proposed AD would require revising the ALS of the existing AMM or ICA for your airplane and the existing approved maintenance or inspection program, as applicable, by incorporating new or more restrictive actions and associated thresholds and intervals, including any life limits, specified in EASA AD 2025-0211, described previously, as incorporated by reference, except for any differences identified as exceptions in the regulatory text of this proposed AD. See “Differences Between this NPRM and the MCAI” for a discussion of the general differences included in this proposed AD.

The owner/operator (pilot) holding at least a private pilot certificate may revise the ALS of the existing AMM or ICA for your airplane, and performance of this incorporation must be entered into the aircraft records showing compliance with this AD in accordance with 14 CFR 43.9(a) and 14 CFR 91.417(a)(2)(v). The record must be maintained as required by 14 CFR 91.417, 121.380, or 135.439.

Differences Between This Proposed AD and the MCAI

Where EASA AD 2025-0211 specifies revising the approved AMP within 12 months after the effective date of EASA AD 2025-0211, this proposed AD would require revising the ALS of the existing approved maintenance or inspection program, as applicable, within 30 days after the effective date of this proposed AD.

Explanation of Required Compliance Information

In the FAA's ongoing efforts to improve the efficiency of the AD process, the FAA developed a process to use some civil aviation authority (CAA) ADs as the primary source of information for compliance with requirements for corresponding FAA ADs. The FAA has since coordinated with other manufacturers and CAAs to use this process. As a result, the FAA proposes to incorporate by reference EASA AD 2025-0211 in the FAA final rule. This proposed AD would, therefore, require compliance with EASA AD 2025-0211 in its entirety through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in EASA AD 2025-0211. Service information required by the EASA AD for compliance will be available at regulations.gov under Docket No. FAA-2026-0022 after the FAA final rule is published.

Costs of Compliance

The FAA estimates that this AD, if adopted as proposed, would affect 167 airplanes of U.S. registry.

The FAA estimates the following costs to comply with this proposed AD:

Estimated Costs
Action | Labor cost | Parts cost | Cost per product | Cost on U.S. operators
Revise the ALS | 1 work-hour × $85 per hour = $85 | $0 | $85 | $14,195

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-11-05, Amendment 39-22451 (88 FR 38382, June 13, 2023); and

b. Adding the following new airworthiness directive:

Pilatus Aircraft Ltd.: Docket No. FAA-2026-0022; Project Identifier MCAI-2025-01575-A.

(a) Comments Due Date

The FAA must receive comments on this airworthiness directive (AD) by March 9, 2026.

(b) Affected ADs

This AD replaces AD 2023-11-05, Amendment 39-22451 (88 FR 38382, June 13, 2023) (AD 2023-11-05).

(c) Applicability

This AD applies to Pilatus Aircraft Ltd., Model PC-24 airplanes, all serial numbers, certificated in any category.

(d) Subject

Joint Aircraft System Component (JASC) Codes 2710, Aileron Control System; 2720, Rudder Control System.

(e) Unsafe Condition

This AD was prompted by a revision to the airworthiness limitations section (ALS) of the existing aircraft maintenance manual (AMM) introducing new and more restrictive instructions and maintenance tasks. These include revisions to various fuselage section inspection intervals and aileron and rudder trim actuator inspection intervals. The FAA is issuing this AD to ensure revision of the ALS of the existing AMM or instructions for continued airworthiness (ICA) for your airplane. The unsafe condition, if not addressed, could result in failure of certain parts, which could result in loss of control of the airplane.

(f) Compliance

Comply with this AD within the compliance times specified, unless already done.

(g) Required Actions

(1) Except as specified in paragraphs (h) and (i) of this AD: Comply with all required actions and compliance times specified in, and in accordance with, European Union Aviation Safety Agency AD 2025-0211, dated September 26, 2025 (EASA AD 2025-0211).

(2) The actions required by this AD may be performed by the owner/operator (pilot) holding at least a private pilot certificate and must be entered into the aircraft records showing compliance with this AD in accordance with 14 CFR 43.9(a) and 91.417(a)(2)(v). The record must be maintained as required by 14 CFR 91.417, 121.380, or 135.439.

(h) Exceptions to EASA AD 2025-0211

(1) Where EASA AD 2025-0211 refers to its effective date, this AD requires using the effective date of this AD.

(2) This AD does not adopt paragraphs (1), (2), (4), and (5) of EASA AD 2025-0211.

(3) Where paragraph (3) of EASA AD 2025-0211 specifies “Within 12 months after the effective date of this AD, revise the approved AMP,” this AD requires replacing that text with “Within 30 days after the effective date of this AD, revise the airworthiness limitations section of your existing aircraft maintenance manual or instructions for continued airworthiness and your existing approved maintenance or inspection program, as applicable.”

(4) The initial compliance time for doing the tasks specified in paragraph (3) of EASA AD 2025-0211 is on or before the applicable limitations and associated thresholds as incorporated by the requirements of paragraph (3) of EASA AD 2025-0211 or within 30 days after the effective date of this AD, whichever occurs later.

(5) This AD does not adopt the “Remarks” section of EASA AD 2025-0211.

(i) Provisions for Alternative Actions and Intervals

After the action required by paragraph (g)(1) of this AD has been done, no alternative actions and associated thresholds and intervals, including any life limits, are allowed unless they are approved as specified in the provisions of the “Ref. Publications” section of EASA AD 2025-0211.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the responsible Flight Standards Office/certificate holding district office.

(k) Additional Information

For more information about this AD, contact Doug Rudolph, Aviation Safety Engineer, FAA, 1600 Stewart Avenue, Suite 410, Westbury, NY 11590; phone: (816) 329-4059; email: doug.rudolph@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2025-0211, dated September 26, 2025.

(ii) [Reserved]

(3) For EASA material identified in this AD, contact EASA, Konrad-Adenauer-Ufer 3, 50668 Cologne, Germany; phone: +49 221 8999 000; email: ADs@easa.europa.eu; website: easa.europa.eu. You may find this EASA AD on the EASA website at ad.easa.europa.eu.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on January 20, 2026.
Steven W. Thompson,
Acting Deputy Director, Compliance & Airworthiness Division, Aircraft Certification Service.

[FR Doc. 2026-01265 Filed 1-22-26; 8:45 am]

BILLING CODE 4910-13-P